DEPARTMENT OF DEFENSE

Department of the Army

Board of Visitors, United States Military Academy

AGENCY: United States Military Academy, DoD.

ACTION: Notice of open meeting.

SUMMARY: In accordance with Section 10(a)(2) of the Federal Advisory Committee Act (Pub. L. 92-463), announcement is made of the following committee meeting:

Name of Committee: Board of Visitors, United States Military Academy.

Date: Friday, October 26, 2001.

Place of Meeting: Superintendent's Conference Room, Taylor Hall, United States Military Academy, West Point, New York.

State Time of Meeting: Approximately 3 p.m.

FOR FURTHER INFORMATION CONTACT: Lieutenant Colonel Edward C. Clarke, United States Military Academy, West Point, NY 10996-5000, (845) 938-4200.

SUPPLEMENTARY INFORMATION: Proposed Agenda: Review of the Academic, Military and Physical Programs, Bicentennial Campaign, Athletic Program, Admissions at USMA and USMAPS Program update. All proceedings are open.

Luz D. Ortiz,
Army Federal Register Liaison Officer.

[FR Doc. 01-25007 Filed 10-4-01; 8:45 am]

BILLING CODE 3710-08-M